DEPARTMENT OF ENERGY

Federal Energy Regulatory Commission

Combined Notice of Filings #1

February 3, 2010.

Take notice that the Commission received the following electric rate filings:

Docket Numbers: ER00-1372-006; ER07-496-003.

Applicants: Alcoa Power Generating Inc.; Alcoa Power Marketing LLC.

Description: Alcoa Power Generating Inc et al request for exemption from the Triennial Market Power Update Reporting requirements for Category 2 Sellers for the Northwest Region.

Filed Date: 02/01/2010.

Accession Number: 20100203-0212.

Comment Date: 5 p.m. Eastern Time on Monday, February 22, 2010.

Docket Numbers: ER01-3103-021.

Applicants: Astoria Energy LLC.

Description: Astoria Energy LLC Submits Order 697 C Report.

Filed Date: 02/02/2010.

Accession Number: 20100202-5083.

Comment Date: 5 p.m. Eastern Time on Tuesday, February 23, 2010.

Docket Numbers: ER01-1822-007.

Applicants: Indigo Generation LLC, Larkspur Energy LLC, Wildflower Energy LP.

Description: Notification of Non-Material Change in Status of Indigo Generation LLC, Larkspur Energy LLC and Wildflower Energy LP.

Filed Date: 02/02/2010.

Accession Number: 20100202-5161.

Comment Date: 5 p.m. Eastern Time on Tuesday, February 23, 2010.

Docket Numbers: ER01-596-011; ER01-560-017; ER01-2690-015; ER02-963-015; ER01-2641-017; ER02-2509-012; ER05-524-010; ER03-720-016; ER02-77-015; ER02-553-015; ER00-840-014; ER01-137-012; ER98-1767-020; ER99-2992-013; ER99-3165-014; ER94-389-036; ER02-1942-014; ER09-43-004; ER00-1780-013; ER01-557-017; ER01-559-017.

Applicants: Alabama Electric Marketing, LLC; Big Sandy Peaker Plant, LLC; California Electric Marketing, LLC; Crete Energy Venture, LLC; High Desert Power Project, LLC; Kiowa Power Partners, LLC; Lincoln Generating Facility, LLC; New Covert Generating Company, LLC; New Mexico Electric Marketing, LLC; Rolling Hills Generating, L.L.C.; Tenaska Alabama Partners, L.P.; Tenaska Alabama II Partners, L.P.; Tenaska Frontier Partners, Ltd.; Tenaska Gateway Partners, Ltd.; Tenaska Georgia Partners, L.P.; Tenaska Power Services Co.; Tenaska Virginia Partners, L.P.; Tenaska Washington Partners, L.P.; Texas Electric Marketing, LLC; University Park Energy, LLC; Wolf Hills Energy, LLC.

Description: Tenaska MBR Sellers submits quarterly report for the third quarter of 2009.

Filed Date: 02/01/2010.

Accession Number: 20100203-0211.

Comment Date: 5 p.m. Eastern Time on Monday, February 22, 2010.

Docket Numbers: ER02-2551-005.

Applicants: Cargill Power Markets, LLC.

Description: Cargill Power Markets, LLC submits the notification of non-material change in status.

Filed Date: 01/29/2010.

Accession Number: 20100202-0255.

Comment Date: 5 p.m. Eastern Time on Friday, February 19, 2010.

Docket Numbers: ER06-220-004; ER09-1677-003; ER06-686-004; ER06-215-004; ER96-2652-059; ER99-4228-012; ER99-4229-012; ER99-4231-011; ER99-852-013; ER08-589-004; ER08-1397-002; ER99-666-009; ER08-293-004; ER06-222-004; ER09-712-003; ER09-712-003; ER07-1138-003; ER06-223-004; ER08-297-004; ER06-736-003; ER99-3693-008; ER08-650-002; ER08-692-002; ER05-1389-005; ER06-221-004; ER07-645-002; ER02-2263-011; ER01-2217-009; ER06-224-004; ER08-931-005; ER08-337-006; ER07-301-002; ER10-607-001; ER10-608-001; ER10-610-001; ER10-609-001; ER10-611-001; ER10-612-001; ER05-1282-004.

Applicants: Bendwind, LLC; Big Sky Wind, LLC; DeGreeff DP, LLC; DeGreeffpa, LLC; CL Power Sales Eight, L.L.C.; CP Power Sales Nineteen, L.L.C.; CP Power Sales Seventeen, L.L.C.; CP Power Sales Twenty, L.L.C.; Edison Mission Marketing & Trading, Inc.; Edison Mission Solutions, L.L.C.; Elkhorn Ridge Wind, LLC; EME Homer City Generation, L.P.; Forward WindPower, LLC; Groen Wind, LLC; High Lonesome Mesa, LLC; Hillcrest Wind, LLC; Jeffers Wind 20, LLC; Larswind, LLC; Lookout WindPower, LLC; Midway-Sunset Cogeneration Company; Midwest Generation, LLC; Mountain Wind Power, LLC; Mountain Wind Power II, LLC; San Juan Mesa Wind Project, LLC; Sierra Wind, LLC; Sleeping Bear, LLC; Southern California Edison Company; Sunrise Power Company, LLC; TAIR Windfarm, LLC; Walnut Creek Energy, LLC; Watson Cogeneration Company; Wildorado Wind, LLC; Coalinga Cogeneration Company; Kern River Cogeneration Company; Mid-Set Cogeneration Company; Salinas River Cogeneration Company; Sycamore Cogeneration Company; Sargent Canyon Cogeneration Company; Storm Lake Power Partners I LLC.

Description: Edison International, on behalf of all of its affiliates with market based rate authority etc submits notice of change in status.

Filed Date: 01/29/2010.

Accession Number: 20100203-0213.

Comment Date: 5 p.m. Eastern Time on Friday, February 19, 2010.

Docket Numbers: ER06-1185-004.

Applicants: Pace Global Asset Management, LLC.

Description: Pace Global Asset Management, LLC submits compliance filing.

Filed Date: 01/29/2010.

Accession Number: 20100202-0252.

Comment Date: 5 p.m. Eastern Time on Friday, February 19, 2010.

Docket Numbers: ER07-527-004.

Applicants: Longview Fibre Paper and Packaging, Inc.

Description: Longview Fibre Paper and Packaging, Inc submits a redlined and clean version of its revised tariff to reflect that Longview Fibre is a Category 1 Seller etc.

Filed Date: 01/29/2010.

Accession Number: 20100202-0256.

Comment Date: 5 p.m. Eastern Time on Friday, February 19, 2010.

Docket Numbers: ER07-1372-017; ER09-1126-001.

Applicants: Midwest Independent Transmission System Operator, Inc.

Description: Midwest Independent Transmission System Operator, Inc. submits a compliance of filing of proposed revisions to its Energy and Operating Reserve markets.

Filed Date: 02/01/2010.

Accession Number: 20100202-0257.

Comment Date: 5 p.m. Eastern Time on Monday, February 22, 2010.

Docket Numbers: ER09-1110-002; ER09-1114-003.

Applicants: RRI Energy Florida, LLC; RRI Energy Services, Inc.

Description: Notice of Change in Status of RRI Florida MBR Companies.

Filed Date: 02/01/2010.

Accession Number: 20100203-0209.

Comment Date: 5 p.m. Eastern Time on Monday, February 22, 2010.

Docket Numbers: ER09-1307-002.

Applicants: EnergyConnect, Inc.

Description: EnergyConnect, Inc. submits revised tariff sheets and redlined version.

Filed Date: 01/29/2010.

Accession Number: 20100202-0251.

Comment Date: 5 p.m. Eastern Time on Friday, February 19, 2010.

Docket Numbers: ER09-1619-001.

Applicants: Midwest Independent Transmission System Operator, Inc.

Description: Midwest Independent Transmission System Operator, Inc submits their compliance filing pursuant to FERC's 12/31/09 Order accepting Tariff Revisions.

Filed Date: 01/29/2010.

Accession Number: 20100203-0201.

Comment Date: 5 p.m. Eastern Time on Friday, February 19, 2010.

Docket Numbers: ER10-27-002.

Applicants: Midwest Independent Transmission System Operator, Inc.

Description: Midwest Independent Transmission System Operator, Inc submits proposed revisions to attachment RR-1 to its Open Access Transmission, Energy and Operating Reserve Markets Tariff in compliance with the Commission directives.

Filed Date: 01/28/2010.

Accession Number: 20100202-0253.

Comment Date: 5 p.m. Eastern Time on Thursday, February 18, 2010.

Docket Numbers: ER10-35-002.

Applicants: Xcel Energy Services Inc.

Description: Refund Report of Xcel Energy Services Inc.

Filed Date: 02/03/2010.

Accession Number: 20100203-5033.

Comment Date: 5 p.m. Eastern Time on Wednesday, February 24, 2010.

Docket Numbers: ER10-183-001.

Applicants: Otter Tail Power Company.

Description: Otter Tail Power Co et al submits certain revisions to the Energy and Operating Markets Tariff in compliance with the December 30 Order.

Filed Date: 01/29/2010.

Accession Number: 20100202-0262.

Comment Date: 5 p.m. Eastern Time on Friday, February 19, 2010.

Docket Numbers: ER10-249-002.

Applicants: Illinois Power Company.

Description: Illinois Power Co. et al submits a compliance filing of revised pages to the Joint Ownership Agreement.

Filed Date: 01/29/2010.

Accession Number: 20100202-0263.

Comment Date: 5 p.m. Eastern Time on Friday, February 19, 2010.

Docket Numbers: ER10-298-001.

Applicants: E.ON U.S. LLC.

Description: Louisville Gas and Electric Company et al submits an executed Network Integration Transmission Service Agreement et al.

Filed Date: 02/02/2010.

Accession Number: 20100203-0210.

Comment Date: 5 p.m. Eastern Time on Tuesday, February 23, 2010.

Docket Numbers: ER10-463-001.

Applicants: Florida Power Corporation.

Description: Progress Energy Service Co., LLC submits notice of cancellation.

Filed Date: 02/01/2010.

Accession Number: 20100202-0258.

Comment Date: 5 p.m. Eastern Time on Monday, February 22, 2010.

Docket Numbers: ER10-523-001.

Applicants: New England Power Company.

Description: National Grid submits Sixth Revised Service Agreement 20 for Mass Electric to replace the incorrect Service Agreement revision submitted on 12/30/09.

Filed Date: 01/29/2010.

Accession Number: 20100202-0264.

Comment Date: 5 p.m. Eastern Time on Friday, February 19, 2010.

Docket Numbers: ER10-560-001.

Applicants: Commonwealth Edison Company.

Description: Commonwealth Edison Company submits errata filing to Transmission Interconnection Upgrade Agreement among ComEd, Northern Indiana Public Service Company, et al.

Filed Date: 01/29/2010.

Accession Number: 20100203-0203.

Comment Date: 5 p.m. Eastern Time on Friday, February 19, 2010.

Docket Numbers: ER10-574-001.

Applicants: NRG Solar Blythe LLC.

Description: NRG Solar Blythe LLC submits the revised FERC Electric tariff, First Revised Volume 1 of NRG, including a revised citation to the unpublished letter order granting NRG certain waivers and blanket authorizations etc.

Filed Date: 01/29/2010.

Accession Number: 20100202-0261.

Comment Date: 5 p.m. Eastern Time on Friday, February 19, 2010.

Docket Numbers: ER10-583-001.

Applicants: Monarch Global Energy, Inc.

Description: Monarch Global Energy, Inc. submits amended petition for acceptance of initial rate schedule, waiver and blanket authority.

Filed Date: 02/01/2010.

Accession Number: 20100203-0202.

Comment Date: 5 p.m. Eastern Time on Monday, February 22, 2010.

Docket Numbers: ER10-678-001.

Applicants: Southwest Power Pool, Inc.

Description: Southwest Power Pool, Inc. submits an errata to the submission of revisions to the SPP Tariff.

Filed Date: 02/02/2010.

Accession Number: 20100202-0260.

Comment Date: 5 p.m. Eastern Time on Tuesday, February 23, 2010.

Docket Numbers: ER10-704-000.

Applicants: Portland General Electric Company.

Description: Portland General Electric Company submits First Revised Rate Schedule FERC No. 185 General Transmission Agreement for Integration of Resources with Bonneville Power Administration etc.

Filed Date: 02/01/2010.

Accession Number: 20100202-0232.

Comment Date: 5 p.m. Eastern Time on Monday, February 22, 2010.

Docket Numbers: ER10-705-000.

Applicants: National Grid Generation LLC.

Description: National Grid Generation, LLC submits Original Sheet 69 et al to FERC Electric Rate Schedule 1.

Filed Date: 02/01/2010.

Accession Number: 20100202-0231.

Comment Date: 5 p.m. Eastern Time on Monday, February 22, 2010.

Docket Numbers: ER10-713-000.

Applicants: PJM Interconnection, L.L.C., Progress Energy Carolinas, Inc.

Description: PJM Interconnection, LLC submits a Joint Operating Agreement executed on 2/2/2010, and designated as PJM FERC Electric tariff Rate Schedule 50 and Carolina Power & Light Company FERC Electric Tariff Rate Schedule 188.

Filed Date: 02/02/2010.

Accession Number: 20100202-0254.

Comment Date: 5 p.m. Eastern Time on Tuesday, February 23, 2010.

Take notice that the Commission received the following open access transmission tariff filings:

Docket Numbers: OA08-14-007.

Applicants: Midwest Independent Transmission System.

Description: The Midwest Independent Transmission System Operator, Inc submits Notification filing pursuant to Sections 19.9 & 32.5 to its Open Access Transmission, Energy and Operating Reserve Markets Tariff etc.

Filed Date: 01/29/2010.

Accession Number: 20100201-0219.

Comment Date: 5 p.m. Eastern Time on Friday, February 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov or call (866) 208-3676 (toll free). For TTY, call (202) 502-8659.

Nathaniel J. Davis, Sr.,
Deputy Secretary.

[FR Doc. 2010-2885 Filed 2-9-10; 8:45 am]

BILLING CODE 6717-01-P